DEPARTMENT OF ENERGY

Federal Energy Regulatory Commission

Combined Notice of Filings #2

September 16, 2005.

Take notice that the Commission received the following electric rate filings:

Docket Numbers: ER02-2366-002.

Applicants: Louis Dreyfus Energy LLC.

Description: Louis Dreyfus Energy, LLC submits an updated market power analysis demonstrating that LDE continues to lack market power pursuant to Order 652.

Filed Date: 09/09/2005.

Accession Number: 20050915-0111.

Comment Date: 5 p.m. Eastern Time on Friday, September 30, 2005.

Docket Numbers: ER05-1146-002.

Applicants: Shiloh I Wind Project LLC.

Description: Shiloh I Wind Project LLC submits First Revised Sheet 1 to FERC Electric Tariff, Volume No. 1 in compliance with FERC's 8/24/05 Order.

Filed Date: 09/09/2005.

Accession Number: 20050913-0141.

Comment Date: 5 p.m. Eastern Time on Friday, September 30, 2005.

Docket Numbers: ER05-1322-001.

Applicants: Xcel Energy Operating Companies.

Description: Xcel Energy Services Inc submits an errata to replace Original Sheet No. 351 to correct the typographical error in proposed Section 1.6.1 of the Small Generation Interconnection Agreement.

Filed Date: 09/09/2005.

Accession Number: 20050913-0144.

Comment Date: 5 p.m. Eastern Time on Friday, September 23, 2005.

Docket Numbers: ER05-1461-000.

Applicants: Alfalfa Electric Cooperative, Inc.

Description: Alfalfa Electric Coop, Inc advises that due to amendments to section 201(f) of the Federal Power Act it is no longer subject to Commission's public utility jurisdiction.

Filed Date: 09/09/2005.

Accession Number: 20050913-0008.

Comment Date: 5 p.m. Eastern Time on Friday, September 30, 2005.

Docket Numbers: ER05-1462-000.

Applicants: Palomar Energy, LLC.

Description: Palomar Energy, LLC submits a Power Purchase Agreement for Short Term Sales of Test Power with Sempra Generation.

Filed Date: 09/09/2005.

Accession Number: 20050913-0007.

Comment Date: 5 p.m. Eastern Time on Friday, September 30, 2005.

Docket Numbers: ER05-1463-000.

Applicants: Mirant Potrero, LLC.

Description: Mirant Potrero, LLC submits revisions to its Must-Run Service Agreement with California Independent System Operator Corporation.

Filed Date: 09/09/2005.

Accession Number: 20050913-0006.

Comment Date: 5 p.m. Eastern Time on Friday, September 30, 2005.

Docket Numbers: ER05-1464-000.

Applicants: Mountainview Power Company, LLC.

Description: Mountainview Power Co., LLC seeks amendments to FERC-approved Power Purchase Agreement with Southern California Edison Company.

Filed Date: 09/09/2005.

Accession Number: 20050913-0005.

Comment Date: 5 p.m. Eastern Time on Friday, September 30, 2005.

Docket Numbers: ER05-1465-000.

Applicants: California Independent System Operator Corporation.

Description: California Independent System Operator Corp submits revisions to its Transmission Revenue Requirement of San Diego Gas & Electric Company.

Filed Date: 09/09/2005.

Accession Number: 20050913-0004.

Comment Date: 5 p.m. Eastern Time on Friday, September 30, 2005.

Docket Numbers: ER05-1466-000.

Applicants: South Carolina Electric & Gas Company

Description: South Carolina Electric & Gas Co. submits conforming changes to its Open Access Transmission Tariff in compliance with FERC's Order No. 2003-C.

Filed Date: 09/09/2005.

Accession Number: 20050913-0003.

Comment Date: 5 p.m. Eastern Time on Friday, September 30, 2005.

Docket Numbers: ER05-1467-000.

Applicants: DC Energy Midwest, LLC.

Description: Application of DC Energy Midwest, LLC for Order Authorizing Market-Based Rates, Waivers, Blanket Authorizations and request for expedited action. September 12 errata to this filing under accession No. 20050913-0088.

Filed Date: 09/09/2005.

Accession Number: 20050913-0002.

Comment Date: 5 p.m. Eastern Time on Friday, September 30, 2005.

Docket Numbers: ER05-1468-000.

Applicants: Ridge Generating Station, Limited Partnership.

Description: Petition of Ridge Generating Station, Limited Partnership for order accepting market-based rate schedule, granting certain waivers and certain blanket approvals.

Filed Date: 09/09/2005.

Accession Number: 20050913-0001.

Comment Date: 5 p.m. Eastern Time on Friday, September 30, 2005.

Docket Numbers: ER05-1469-000; ER05-1470-000.

Applicants: DTE East China, LLC; DTE Energy Trading, Inc.

Description: Application of DTE East China, LLC and DTE Energy Trading, Inc. for blanket authorizations, certain waivers and order approving market-based rate tariff and conforming rate schedule changes.

Filed Date: 09/09/2005.

Accession Number: 20050913-0012.

Comment Date: 5 p.m. Eastern Time on Friday, September 30, 2005.

Docket Numbers: ER05-1471-000.

Applicants: Connexus Energy.

Description: Connexus Energy advises that due to amendments to section 201(f) of the Federal Power Act it is no longer a public utility.

Filed Date: 09/09/2005.

Accession Number: 20050913-0010.

Comment Date: 5 p.m. Eastern Time on Friday, September 30, 2005.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-5202 Filed 9-27-05; 8:45 am]

BILLING CODE 6717-01-P